DEPARTMENT OF ENERGY

Federal Energy Regulatory Commission

[Docket No. RP01-83-000]

Seagull Marketing Services, Inc., Complainant, v. Columbia Gulf Transmission Company, Respondent; Notice of Complaint

November 9, 2000.

Take notice that on November 8, 2000, pursuant to Sections 5, 7, and 16 of the Natural Gas Act (NGA), 15 U.S.C. 717d, 717f, and 717o, and Rule 206 of the Commission's Rules of Practice and Procedure, 18 CFR 385.206, Seagull Marketing Services, Inc. (Seagull) tendered for filing a complaint against Columbia Gulf Transmission Company (Columbia Gulf). Seagull has requested Fast Track processing under 18 CFR 385.206(h).

Seagull alleges that Columbia Gulf has used an inappropriate cash-out price for imbalance volumes and improperly assessed imbalance penalties against Seagull that are in violation of Sections 5 and 7 of the NGA, Part 284 of the Commission's regulations, operative provisions of the currently effective Columbia Gulf Tariff (Tariff), and Commission policy and precedent.

Seagull requests Fast Track processing under 18 CFR 385.206(h) because of the threat of additional monthly imbalance penalties. To the extent that Fast Track procedures do not apply, Seagull asks the Commission to issue an immediate stay of any further assessment by Columbia Gulf of monthly imbalance penalties pending a disposition on the merits of this complaint.

Any person desiring to be heard or to protest this filing should file a motion to intervene or protest with the Federal Energy Regulation Commission, 888 First Street, NE., Washington, DC 20426, in accordance with Rules 211 and 214 of the Commission's Rules of Practice and Procedure (18 CFR 385.211 and 385.214). All such motions or protests must be filed on or before November 28, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before November 28, 2000.

Linwood A. Watson, Jr.,
Acting Secretary.

[FR Doc. 00-29343 Filed 11-15-00; 8:45 am]

BILLING CODE 6717-01-M